COMMISSION ON CIVIL RIGHTS

Sunshine Act Notice

AGENCY: United States Commission on Civil Rights.

ACTION: Correction to notice of briefing.

Date and Time: Friday, November 9, 2007; 9:30 a.m.

Place: U.S. Commission on Civil Rights, 624 Ninth Street, NW., Rm. 540, Washington, DC 20425.

Corrected Briefing Agenda

Discrimination Against Native Americans in Border Towns (On November 1, 2007, a notice was placed in the Federal Register at 72 FR 61858 indicating that the briefing would concern Minorities in Foster Care Adoption. The November 9, 2007 briefing is on Discrimination Against Native Americans in Border Towns.)

I. Introductory Remarks by Chairman.

II. Speakers' Presentations.

III. Questions by Commissioners and Staff Director.

IV. Adjourn.

Contact Person for Further Information: Sock Foon MacDougall, Press and Communications, (202) 376-8582.

Dated: November 1, 2007.
David Blackwood,
General Counsel.

[FR Doc. 07-5545 Filed 11-1-07; 3:30 pm]

BILLING CODE 6335-01-P